DEPARTMENT OF HOMELAND SECURITY

Coast Guard

33 CFR Part 110

[Docket No. USCG-2009-0045]

RIN 1625-AA01

Anchorage Regulations; Port of New York

AGENCY: Coast Guard, DHS.

ACTION: Direct final rule; confirmation of effective date.

SUMMARY: This document confirms that the direct final rule entitled “Anchorage Regulations; Port of New York,” published July 1, 2009, in the Federal Register (74 FR 31354), became effective September 29, 2009.

DATES: The effective date of the direct final rule published July 1, 2009 (74 FR 31354), is confirmed as September 29, 2009.

ADDRESSES: The docket for this rulemaking, USCG-2009-0045, is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-0045 in the “Keyword” box, and then clicking “Search.”

FOR FURTHER INFORMATION CONTACT: If you have questions on this rulemaking, call or e-mail Mr. Jeff Yunker, Waterways Management Division, Coast Guard, telephone 718-354-4195, e-mail Jeff.M.Yunker@uscg.mil. If you have questions on viewing the docket, call Renee V. Wright, Program Manager, Docket Operations, telephone 202-366-9826.

SUPPLEMENTARY INFORMATION:

On July 1, 2009, we published a direct final rule entitled “Anchorage Regulations; Port of New York” in the Federal Register (74 FR 31354). That direct final rule revised the southern boundary of Anchorage Ground No. 20-F such that it no longer interferes with the expanded Port Jersey Federal Channel, removing authorization for vessels to mistakenly anchor within a Federal Channel, and therefore removing this hazardous condition for vessels navigating in this area. Additionally, the direct final rule updated two geographic coordinates that make up the northern boundary. The physical location of these points is unchanged; however slight changes in the coordinates reflect the update to datum NAD 83.

In the direct final rule we notified the public of our intent to make the rule effective on September 29, 2009, unless an adverse comment, or notice of intent to submit an adverse comment, was received on or before August 31, 2009. We did not receive any comments or notices of intent to submit an adverse comment on that rule. Therefore, under 33 CFR 1.05-55(d), we now confirm that the “Anchorage Regulations; Port of New York” rule became effective, as scheduled, on September 29, 2009.

Dated: September 29, 2009.
Joseph L. Nimmich,
Rear Admiral, U.S. Coast Guard, Commander, First Coast Guard District.

[FR Doc. E9-24318 Filed 10-7-09; 8:45 am]

BILLING CODE 4910-15-P